DEPARTMENT OF TRANSPORTATION

Federal Aviation Administration

14 CFR Part 71

[Docket No. FAA-2021-0477; Airspace Docket No. 21-AGL-10]

RIN 2120-AA66

Amendment of Class D and Class E Airspace; Belleville, IL

AGENCY: Federal Aviation Administration (FAA), DOT.

ACTION: Final rule.

SUMMARY: This action amends the Class D and Class E airspace at Scott AFB/MidAmerica St. Louis Airport, Belleville, IL. This action is due to the results of a biennial airspace review. The name of the airport is also being updated to coincide with the FAA's aeronautical database.

DATES: Effective 0901 UTC, December 2, 2021. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order JO 7400.11F at NARA, email: fr.inspection@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace, the Class E airspace area designated as an extension to Class D airspace, and the Class E airspace extending upward from 700 feet above the surface at Scott AFB/MidAmerica St. Louis Airport, Belleville, IL, to support instrument flight rule operations at this airport.

History

The FAA published a notice of proposed rulemaking (NPRM) in the Federal Register (86 FR 33586; June 25, 2021) for Docket No. FAA-2021-0477 to amend the Class D and Class E airspace at Scott AFB/MidAmerica St. Louis Airport, Belleville, IL. Interested parties were invited to participate in this rulemaking effort by submitting written comments on the proposal to the FAA. No comments were received.

Class D and E airspace designations are published in paragraph 5000, 6004, and 6005, respectively, of FAA Order JO 7400.11F, dated August 10, 2021, and effective September 15, 2021, which is incorporated by reference in 14 CFR 71.1. The Class D and E airspace designations listed in this document will be published subsequently in the order.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Differences From the NPRM

Subsequent to the publication of the NPRM, the FAA discovered a typographic error in the Class E airspace extending upward from 700 feet above the surface to at Scott AFB/MidAmerica St. Louis Airport airspace legal description. In the northeast extension, the extension should extend from the 7.4-mile radius vice 4.9-mile. Additionally, it was discovered that the extension proposed to be added southeast of the airport is captured by another extension and is therefore not required. As these changes do not affect the Class E airspace as proposed, they are incorporated into this rule.

The Rule

This amendment to 14 CFR part 71:

Amends the Class D airspace at Scott AFB/MidAmerica St. Louis Airport, Belleville, IL, by removing the city associated with the airport to comply with changes to FAA Order 7400.2N, Procedures for Handling Airspace Matters; updating the name (previously Scott AFB/MidAmerica Airport) of the airport to coincide with the FAA's aeronautical database; and replacing the outdated term “Airport/Facility Directory” with “Chart Supplement”;

Amends the Class E airspace area designated as an extension to Class D airspace at Scott AFB/MidAmerica St. Louis Airport by adding an extension 1.3 miles each side of the 048° bearing from the Scott TACAN extending from the 4.9-mile radius of the airport to 5.7 miles northeast of the Scott TACAN; amends the northwest extension to 1 mile (decreased from 1.5 miles) each side of the 314° (previously 312°) radial from the Scott TACAN extending from the 4.9-mile radius from the airport to 9.5 miles (decreased from 10 miles) northwest of the Scott TACAN; removes the city associated with the airport to comply with changes to FAA Order 7400.2N; updates the name of the airport (previously Scott AFB/MidAmerica Airport) to coincide with the FAA's aeronautical database; and replaces the outdated term “Airport/Facility Directory” with “Chart Supplement”;

And amends the Class E airspace extending upward from 700 feet above the surface to at Scott AFB/MidAmerica St. Louis Airport by adding an extension 8 miles northwest and 10 miles southeast of the 048° bearing from the Scott TACAN extending from the 7.4-mile radius of the airport to 22 miles northeast of the Scott TACAN; amends the southeast extension to 1.5 miles (decreased from 1.7 miles) each side of the 142° (previously 140°) radial from the Scott TACAN extending from the 7.4-mile radius of the airport to 12.7 miles (decreased from 14 miles) southeast of the Scott TACAN; amends the northwest extension to 4 miles (increased from 1.5 miles) each side of the 314° (previously 312°) radial from the Scott TACAN extending from the 7.4-mile radius of the airport to 10.5 miles (increased from 10 miles) northwest of the Scott TACAN; removes the city associated with the airport to comply with changes to FAA Order 7400.2N; updates the name of the airport (previously Scott AFB/MidAmerica Airport) to coincide with the FAA's aeronautical database; and removes the exclusionary language as it is not required.

This action is due to the results of a biennial airspace review.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

71.1 [Amended]

2. The incorporation by reference in 14 CFR 71.1 of FAA Order JO 7400.11F, Airspace Designations and Reporting Points, dated August 10, 2021, and effective September 15, 2021, is amended as follows:

Paragraph 5000 Class D Airspace.

* * * * *

AGL IL D Belleville, IL [Amended]

Scott AFB/MidAmerica St. Louis Airport, IL

(Lat. 38°32′43″ N, long. 89°50′07″ W)

That airspace extending upward from the surface to and including 3,000 feet MSL within a 4.9-mile radius of the Scott AFB/MidAmerica St. Louis Airport. This Class D airspace area is effective during the specific dates and times established in advance by Notice to Airmen. The effective date and time will thereafter be continuously published in the Chart Supplement.

Paragraph 6004 Class E Airspace Areas Designated as an Extension to a Class D or Class E Surface Area.

* * * * *

AGL IL E4 Belleville, IL [Amended]

Scott AFB/MidAmerica St. Louis Airport, IL

(Lat. 38°32′43″ N, long. 89°50′07″ W)

Scott TACAN

(Lat. 38°32′43″ N, long. 89°51′06″ W)

That airspace extending upward from the surface within 1.3 miles each side of the 048° bearing from the Scott TACAN extending from the 4.9-mile radius of Scott AFB/MidAmerica St. Louis Airport to 5.7 miles northeast of the Scott TACAN, and within 1 mile each side of the 314° radial from the Scott TACAN extending from the 4.9-mile radius of the Scott AFB/MidAmerica St. Louis Airport to 9.5 miles northwest of the Scott TACAN. This Class E airspace area is effective during the specific dates and times established in advance by Notice to Airmen. The effective date and time will thereafter be continuously published in the Chart Supplement.

Paragraph 6005 Class E Airspace Areas Extending Upward From 700 Feet or More Above the Surface of the Earth.

* * * * *

AGL IL E5 Belleville, IL [Amended]

Scott AFB/MidAmerica St. Louis Airport, IL

(Lat. 38°32′43″ N, long. 89°50′07″ W)

Scott TACAN

(Lat. 38°32′43″ N, long. 89°51′06″ W)

That airspace extending upward from 700 feet above the surface within a 7.4-mile radius of Scott AFB/MidAmerica St. Louis Airport, and within 8 miles northwest and 10 miles southeast of the 048° bearing from the Scott TACAN extending from the 7.4-mile radius from Scott AFB/MidAmerica St. Louis Airport to 22 miles northeast of the Scott TACAN, and within 1.5 miles each side of the 142° radial from the Scott TACAN extending from the 7.4-mile radius of Scott AFB/MidAmerica St. Louis Airport to 12.7 miles southeast of the Scott TACAN, and within 4 miles each side of the 314° radial from the Scott TACAN extending from the 7.4-mile radius of Scott AFB/MidAmerica St. Louis Airport to 10.5 miles northwest of the Scott TACAN.

Issued in Fort Worth, Texas, on September 9, 2021.
Martin A. Skinner,
Acting Manager, Operations Support Group, ATO Central Service Center.

[FR Doc. 2021-19831 Filed 9-15-21; 8:45 am]

BILLING CODE 4910-13-P